DEPARTMENT OF THE INTERIOR

National Park Service

[NPS-WASO-NAGPRA-NPS0035615; PPWOCRADN0-PCU00RP14.R50000]

Notice of Inventory Completion Amendment: U.S. Department of the Interior, Fish and Wildlife Service, Alaska Region, Anchorage, AK

AGENCY: National Park Service, Interior.

ACTION: Notice; amendment.

SUMMARY: In accordance with the Native American Graves Protection and Repatriation Act (NAGPRA), the U.S. Department of the Interior, Fish and Wildlife Service, Alaska Region, Anchorage, AK (FWS Alaska) has amended a Notice of Inventory Completion published in the Federal Register on October 29, 2008. This notice amends the minimum number of individuals and the number of associated funerary objects in a collection removed from Carlisle Island, Aleutians West Borough, AK.

DATES: Repatriation of the human remains and associated funerary objects in this notice may occur on or after May 17, 2023.

ADDRESSES: Jeremy M. Karchut, Regional Archaeologist/Regional Historic Preservation Officer, U.S. Fish and Wildlife Service, 1011 E. Tudor Rd, MS-235, Anchorage, AK 99503, telephone (907) 786-3399, email jeremy_karchut@fws.gov.

SUPPLEMENTARY INFORMATION: This notice is published as part of the National Park Service's administrative responsibilities under NAGPRA. The determinations in this notice are the sole responsibility of FWS Alaska. The National Park Service is not responsible for the determinations in this notice. Additional information on the amendments and determinations in this notice, including the results of consultation, can be found in the inventory or related records held by FWS Alaska.

Amendment

This notice amends the determinations of a Notice of Inventory Completion published in the Federal Register (73 FR 64367-64368, October 29, 2008). Repatriation of the items in the original Notice of Inventory Completion has not occurred. This notice amends the minimum number of individuals and number of associated funerary objects. The number of individuals originally reported from Carlisle Island increased from one to two and the number of associated funerary objects increased from zero to six.

Table of Changes

Human Remains
Site | Original number of individuals | Amended number of individuals
Carlisle Island | 1 | 2

Associated Funerary Objects
Site | Original number | Amended number | Amended description
Carlisle Island | 0 | 6 | one pumice ground stone; two clam shells; one stone pallet; one matting fragment; and one worked bone

Determinations (as Amended)

Pursuant to NAGPRA and its implementing regulations, and after consultation with the appropriate Indian Tribes and Native Hawaiian organizations, FWS Alaska has determined that:

• The human remains represent the physical remains of two individuals of Native American ancestry.

• The six objects are reasonably believed to have been placed with or near individual human remains at the time of death or later as part of the death rite or ceremony.

• There is a relationship of shared group identity that can be reasonably traced between the human remains and associated funerary objects and the Native Village of Nikolski.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 17, 2023. If competing requests for repatriation are received, FWS Alaska must determine the most appropriate requestor prior to repatriation. Requests for joint repatriation of the human remains and associated funerary objects are considered a single request and not competing requests. FWS Alaska is responsible for sending a copy of this notice to the Indian Tribe.

Authority: Native American Graves Protection and Repatriation Act, 25 U.S.C. 3003, and the implementing regulations, 43 CFR 10.9, 10.10, 10.13, and 10.14.

Dated: March 29, 2023.
Melanie O'Brien,
Manager, National NAGPRA Program.

[FR Doc. 2023-08055 Filed 4-14-23; 8:45 am]

BILLING CODE 4312-52-P